SECURITIES AND EXCHANGE COMMISSION

[File No. 500-1]

In the Matter of Evolution Global Capital Partners, Inc.; Order of Suspension of Trading

September 24, 2007.

It appears to the Securities and Exchange Commission that the market for the securities of Evolution Global Capital Partners, Inc. (“Evolution,” trading symbol EGCA), may be reacting to manipulative forces or deceptive practices and that there is insufficient current public information about the issuer upon which an informed investment decision may be made, particularly concerning (1) The identity of and prior securities fraud judgments against persons who appear to be involved in the offer and sale, or in connection with the purchase or sale, of Evolution shares; (2) the financial performance and business prospects of Evolution; and (3) offerings to foreign investors and any restrictions on the resale of shares.

The Commission is of the opinion that the public interest and the protection of investors require a suspension of trading in the securities of the above-listed company.

Therefore, it is ordered, pursuant to Section 12(k) of the Securities Exchange Act of 1934, that trading in the above-listed company is suspended for the period of 9:30 a.m. EDT, September 24, 2007 through 11:59 p.m. EDT, on October 5, 2007.

By the Commission.
Nancy M. Morris,
Secretary.

[FR Doc. 07-4760 Filed 9-24-07; 1:11 pm]

BILLING CODE 8010-01-P